DEPARTMENT OF THE INTERIOR

Bureau of Land Management

[LLNV930000.L13400000.KH0000.LXSS189F0000; MO# 4500065257]

Notice of Competitive Auction for Solar Energy Development on Public Lands in the State of Nevada

AGENCY: Bureau of Land Management, Interior.

ACTION: Notice.

SUMMARY: The Bureau of Land Management (BLM) Southern Nevada District Office will accept competitive bids to select preferred applicants to submit right-of-way (ROW) applications and plans of development for solar energy projects on up to approximately 3,083 acres of public land in Clark County, Nevada.

DATES: The BLM will hold an oral auction at 10:00 a.m. Pacific Time on June 30, 2014. Prior to the oral auction, sealed bids will be accepted and carried forward to the oral auction. Sealed bids must be received, not postmarked, by the BLM Southern Nevada District Office at the address listed below on or before June 26, 2014.

ADDRESSES: The BLM will hold the oral auction at the City of North Las Vegas Council Chambers, 2250 Las Vegas Blvd., North Las Vegas, NV 89030. Sealed bids, including the bidder qualification fee deposit and required documentation, must be submitted to the Bureau of Land Management, Attention: Gregory L. Helseth, 4701 North Torrey Pines Drive, Las Vegas, NV 89130. Electronic bid submissions will not be accepted.

FOR FURTHER INFORMATION CONTACT: Gregory L. Helseth, Renewable Energy Project Manager, by telephone at 702-515-5173 or by email at ghelseth@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: BLM Nevada has received several solicitations of interest and ROW applications within the Dry Lake Solar Energy Zone (SEZ). The BLM may use a competitive process when there are two or more applications for the same facility or system (43 CFR 2804.23). Applications for solar energy development are processed as ROW authorizations pursuant to Title V of the Federal Land Policy and Management Act.

The BLM will use a competitive sealed and oral bid process to select a preferred applicant to submit a ROW application and plan of development for solar energy development in the Dry Lake SEZ.

The competitive oral auction will begin at 10 a.m. Pacific Time on June 30, 2014, opening with the minimum bonus bid or the highest sealed bid over the minimum bonus bid, whichever is higher. Bidder registration begins at 9 a.m. Pacific Time on June 30, 2014. In order to bid, you must provide the bidder's name and personal or business address. Each bid can only contain the name of one bidder (i.e., citizen, association or partnership, corporation or municipality). A bidder qualification fee of $10,000, in the form of a cashier's or certified check made payable to the “Bureau of Land Management”, is required from each bidder at the time of registration or with the sealed bid. Only one bidder qualification fee per bidder is required, regardless of the number of parcels bid on. A bidder that submits a sealed bid can also participate in the oral auction but will need to register the day of the auction. The bidder will need to provide a photocopy of the qualification fee that was submitted with the sealed bid or other documentation that the qualification fee was submitted to be able to register for the oral auction. Sealed bids must include the same required information and bidder qualification fee for registration. If a sealed bid is submitted prior to the oral auction, all bidding documents must be enclosed in a sealed envelope with the bidder's name and return address on the outside. Include the following notation on the front lower left hand corner of the sealed envelope: SEALED BID—DO NOT OPEN.

A minimum bonus bid has been determined for each parcel. The minimum bonus bid represents 10 percent of the rent value of the land for 1 year ($203.06 per acre for Clark County) under the BLM's interim solar rental policy and is based on the interests acquired by a preferred applicant to file a ROW application in a SEZ. Minimum bonus bids for the six parcels are: Parcel 1—$14,462; Parcel 2—$4,524; Parcel 3—$15,406; Parcel 4—$14,803; Parcel 5—$10,309; and Parcel 6—$3,101. Bidders must use a bid statement to identify the bonus amount the bidder would pay to submit a ROW application and plan of development for each parcel. The bonus bid must meet or exceed the minimum bonus bid amount identified above for each parcel. The bid statement format and a complete description of the bid process are contained in an Invitation for Bids package available on the BLM Solar Energy Program Web site at: http://blmsolar.anl.gov/sez/nv/dry-lake/competitive-leasing/. All registered bidders will be notified of the results of the oral auction within 10 calendar days of the bid closing. Bonus bids from the successful high bidder(s) and an administrative fee of $45,317 for each parcel must be deposited within 10 calendar days of notification in the form of a cashier's or certified check made payable to the “Bureau of Land Management”.

The $10,000 bidder qualification fee paid by the successful bidder at the time of registration or with the sealed bid will be applied to the bonus bid and the administrative fee due from the successful bidder for each parcel. Upon the BLM's acceptance of the bonus bid specified in the bid statement and the administrative fee, the successful bidder will become the preferred ROW applicant. The required administrative fee will be retained by the agency to recover administrative costs for conducting the competitive bid and environmental review processes. The bonus bid will be deposited with the U.S. Treasury. Neither amount will be returned or refunded to the successful high bidder(s) under any circumstance. Bidder qualification fees received from unsuccessful bidders will be returned, without interest, upon the BLM's acceptance of the high bidder's bonus bid.

If there is no bid received for a parcel, then no preferred ROW applicant will be identified and no application will be processed for solar energy development under the procedures listed in this notice. In the case of tied bids, the BLM may re-offer the lands competitively to the tied bidders, or to all prospective bidders.

The successful bidder(s) must submit a ROW application and plan of development to the BLM within 180 calendar days of notification of the results of the oral auction. Preferred ROW applicants will be required to reimburse the United States for the cost of processing an application consistent with the requirements of the regulations at 43 CFR 2804.14.

The cost recovery fees are based on the amount of time the BLM estimates it will take to process the ROW application and issue a decision. The BLM will begin processing the ROW application once the cost recovery fees are received as required by the regulations. Only interests in issued ROW grants are assignable under the existing regulations at 43 CFR 2807.21. The interests acquired by the successful bidder from this auction may not be assigned or sold to another party prior to the issuance of a ROW grant. The successful bidder, however, may continue to pursue their application if the successful bidder becomes a wholly owned subsidiary of a new third party.

Bidders may submit bids for each of the six parcels of public land described below. The public lands made available by this notice include six parcels in the Dry Lake SEZ, consisting of approximately 3,083 acres of public land. All parcels lie within the Dry Lake SEZ, approximately 15 miles northeast of Las Vegas, Nevada.

Parcel 1 as shown on the National Renewable Energy Laboratory (NREL) GIS map titled “Dry Lake SEZ”, dated April 2014, contains an aggregate of 712.2 acres, more or less, as described below:

Mount Diablo Meridian, Nevada

T. 17 S., R. 63 E.,

Sec. 33, lots 9, 10, 13 and 14, NE¼SE¼, (excluding that portion of land utilized as tortoise habitat connectivity as shown on the “Dry Lake SEZ Non-Development Acres Tortoise Corridor” map dated February 11, 2014);

Sec. 34, lots 1 thru 4, NE¼, S½NW¼, and N½S½, (excluding that portion of land utilized as tortoise habitat connectivity as shown on the “Dry Lake SEZ Non- Development Acres Tortoise Corridor” map dated February 11, 2014, and excluding that portion lying southeasterly of the westerly right-of-way for transmission line, BLM Nevada case file N 75607);

Sec. 35, that portion lying northwesterly of the westerly right-of-way for transmission line, BLM Nevada case file N 74510, and lying northwesterly of the westerly boundary for transmission line switchyard, BLM Nevada case file N 75025.

T. 18 S., R. 63 E.,

Sec. 3, Beginning at the section corner of sections 3, 4, 33 and 34, Townships 17 and 18 South, Range 63 East; thence S. 89°23′ E., along the section line, to the intersection with the westerly right-of-way for transmission line, BLM Nevada case file N 75607; thence southwesterly, along westerly right-of-way for transmission line, BLM Nevada case file N 75607, to a point where the westerly right-of-way for transmission line, BLM Nevada case file N 75607 changes course and commences westerly; thence westerly, along northerly right-of-way for transmission line, BLM Nevada case file N 75607, to an intersection with the centerline of U.S. Highway No. 93; thence N. 44°07.8′ W., along the centerline of U.S. Highway No. 93, to an intersection with the section line of sections 3 and 4; thence N. 0°02.2′ E., along the section line, to the section corner of sections 3, 4, 33 and 34, and the Point Of Beginning;

Sec. 4, lot 5.

Parcel 2 as shown on NREL GIS map titled “Dry Lake SEZ”, dated April 2014, contains of an aggregate of 222.8 acres, more or less, as described below:

Mount Diablo Meridian, Nevada

T. 17 S., R. 63 E.,

Sec. 35, Beginning at the intersection of the section line of sections 2 and 35, Townships 17 and 18 South, Range 63 East with the westerly right-of-way for transmission line, BLM Nevada case file N 75025; thence N. 89°23′ W., along the section line, to an intersection with the easterly right-of-way for transmission line, BLM Nevada case file N 75607; thence northeasterly, along easterly right-of-way for transmission line, BLM Nevada case file N 75607, to an intersection with the westerly right-of-way for transmission line, BLM Nevada case file N 75025 (if right-of-ways do not intersect, extend them until they do); thence southeasterly, along westerly right-of-way for transmission line, BLM Nevada case file N 75025, to an intersection with the section line of sections 2 and 35, and the Point Of Beginning;

T. 18 S., R. 63 E.,

Sec. 2, Beginning at the intersection of the section line of sections 2 and 35, Townships 17 and 18 South, Range 63 East, with the westerly right-of-way for transmission line, BLM Nevada case file N 75025; thence N. 89°23′ W., along the section line, to an intersection with the easterly right-of-way for transmission line, BLM Nevada case file N 75607; thence southwesterly, along easterly right-of-way for transmission line, BLM Nevada case file N 75607, to an intersection with the section line of sections 2 and 3; thence S. 0°04′ W., along the section line, to an intersection with the northerly right-of-way for an oil and gas pipeline, BLM Nevada case file N 42581; thence easterly, along the northerly right-of-way for an oil and gas pipeline, BLM Nevada case file N 42581, to an intersection with the westerly right-of-way for transmission line, BLM Nevada case file N 75025; thence northwesterly, along westerly right-of-way for transmission line, to the intersection with the section line of sections 2 and 35, and the Point Of Beginning;

Sec. 3, Beginning at the intersection of the section line of sections 2 and 3, with the easterly right-of-way for transmission line, BLM Nevada case file N 75607; thence S. 0°04′ W., along the section line, to an intersection with the northerly right-of-way for an oil and gas pipeline, BLM Nevada case file N 42581; thence westerly, along the northerly right-of-way for an oil and gas pipeline, BLM Nevada case file N 42581, to an intersection with the easterly right-of-way for transmission line, BLM Nevada case file N 75607 (if right-of-ways do not intersect, extend them until they do); thence northeasterly, along the easterly right-of-way for transmission line, BLM Nevada case file N 75607, to an intersection with the section line of sections 2 and 3, and the Point Of Beginning.

Parcel 3 as shown on NREL GIS map titled “Dry Lake SEZ”, dated April 2014, contains of an aggregate of 758.7 acres, more or less, as described below:

Mount Diablo Meridian, Nevada

T. 18 S., R. 63 E.,

Sec. 1, SW¼, SW¼NW¼ (excluding that portion of land identified as non- development on Argonne National Laboratory map titled “Developable Area for the Proposed Dry Lake SEZ”, dated July 2012, and excluding that portion of land southwesterly of the westerly right-of-way for transmission line, BLM Nevada case file N 75025, and excluding that portion of land hereinafter described in Parcel 4;

Sec. 2, S½, S½NE¼, S½NW¼ (excluding that portion of land north of the southerly right-of-way for an oil and gas pipeline, BLM Nevada case file N 4258;

Sec. 3, lots 9, 10, 13 and 14, NE¼SE¼, S½NE¼, S½NW¼, (excluding that portion of land north of the southerly right-of-way for an oil and gas pipeline, BLM Nevada case file N 42581.

Parcel 4 as shown on the National Renewable Energy Laboratory (NREL) GIS map titled “Dry Lake SEZ”, dated April 2014, contains an aggregate of 729.0 acres, more or less, as described below:

Mount Diablo Meridian, Nevada

T. 18 S., R. 63 E.,

Sec. 1, S½SW¼ (excluding that portion of land previously described in Parcel 3, excluding that portion of land identified as non-development on Argonne National Laboratory map titled “Developable Area for the Proposed Dry Lake SEZ”, dated July 2012, and excluding that portion of land northeasterly of the westerly right-of-way for transmission line, BLM Nevada case file N 75025);

Sec. 10, lot 1;

Sec. 11, lots 1, 3 thru 5, and 9, NE¼, N½SE¼, SE¼SE¼, NE¼NW¼ (excluding that portion of land identified as non-development on Argonne National Laboratory map titled “Developable Area for the Proposed Dry Lake SEZ”, dated July 2012);

Sec. 12, W½ (excluding that portion of land identified as non-development on Argonne National Laboratory map titled “Developable Area for the Proposed Dry Lake SEZ”, dated July 2012, and excluding that portion of land southeasterly of the northwesterly right-of-way for utility corridor line, BLM Nevada case file N 52787, and excluding that portion of land southeasterly of the northwesterly right-of-way for utility corridor, identified in Public Law 96-491 and extended through this area;

Sec. 14, lot 1 (excluding that portion of land southeasterly of the northwesterly right- of-way for utility corridor line, BLM Nevada case file N 52787;

Parcel 5 as shown on the National Renewable Energy Laboratory (NREL) GIS map titled “Dry Lake SEZ”, dated April 2014, contains an aggregate of 507.7 acres, more or less, as described below:

Mount Diablo Meridian, Nevada

T. 17 S., R. 63 E.,

Sec. 36, (excluding that portion of land identified as non-development on Argonne National Laboratory map titled “Developable Area for the Proposed Dry Lake SEZ”, dated July 2012, and excluding that portion of land westerly of the easterly right-of-way for pipeline, BLM Nevada case file N 81555, and excluding that portion of land westerly of the northeasterly property boundary of Harry Allen Generating station);

T. 17 S., R. 64 E.,

Sec. 31, W½, that portion of land westerly of the westerly boundary of land identified as non-development on Argonne National Laboratory map titled “Developable Area for the Proposed Dry Lake SEZ”, dated July 2012;

T. 18 S., R. 63 E.,

Sec. 1, that portion of land northeasterly of the northeasterly right-of-way for transmission line, BLM Nevada case file N 61363, easterly of easterly right-of-way for pipeline, BLM Nevada case file N 81555, and northwesterly of northwesterly boundary for power compressor station.

Parcel 6 as shown on the National Renewable Energy Laboratory (NREL) GIS map titled “Dry Lake SEZ”, dated April 2014, contains an aggregate of 152.7 acres, more or less, as described below:

Mount Diablo Meridian, Nevada

T. 17 S., R. 64 E.,

Sec. 31, that portion of land northwesterly of the westerly right-of-way for utility corridor, identified in Public Law 96-491 extended through this area and easterly of the easterly boundary of land identified as non-development on Argonne National Laboratory map titled “Developable Area for the Proposed Dry Lake SEZ”, dated July 2012;

T. 18 S., R. 63 E.,

Sec. 1, that portion of land northwesterly of the westerly right-of-way for utility corridor, identified in Public Law 96-491 extended through this area and northeasterly of the northeasterly right-of-way for transmission line, BLM Nevada case file N 61363 (excluding that portion of land identified as non-development on Argonne National Laboratory map titled “Developable Area for the Proposed Dry Lake SEZ”, dated July 2012, and excluding that portion of land hereinbefore described as Parcel 5, and excluding that portion of land within the right-of-way for transmission line, BLM Nevada case file N 42581, and excluding that portion of land identified within the boundaries for power compressor station);

T. 18 S., R. 64 E.,

Sec. 6, that portion of land northwesterly of the westerly right-of-way for utility corridor, identified in Public Law 96-491 extended through this area.

Detailed information about the Dry Lake SEZ, including maps, can be viewed and downloaded at: http://blmsolar.anl.gov/sez/nv/dry-lake/.

Solar photovoltaic (PV) and parabolic trough technologies are the preferred technologies for solar development in the Dry Lake SEZ. Solar power tower development could potentially impact military operations in the area.

The “Solar Regional Mitigation Strategy for the Dry Lake Solar Energy Zone” was released with publication of a public interest Notice for the Dry Lake SEZ on March 17, 2014. The Mitigation Strategy describes off-site mitigation actions and costs that the BLM will consider when processing the ROW application for a solar energy project in the Dry Lake SEZ. The Mitigation Strategy is available online at http://www.blm.gov/pgdata/etc/medialib/blm/wo/blm_library/tech_notes.Par.29872.File.dat/TN_444.pdf.

The BLM will host a webinar for interested bidders on Tuesday, June 17 from 1:00 p.m. to 2:30 p.m. Pacific Time to discuss the bidding process and answer any questions regarding the competitive auction scheduled for June 30, 2014, for the Dry Lake SEZ. Documents for the auction will be posted to the BLM Solar Energy Program Web site prior to the webinar at: http://blmsolar.anl.gov/sez/nv/dry-lake/competitive-leasing/. The dial-in number for the webinar is: 1-888-850-4523; Passcode 473080. The URL for the webinar is: http://anl.adobeconnect.com/blmsezauction/. For more information regarding the auction and the webinar contact Greg Helseth, Renewable Energy Project Manager, by telephone at 702-515-5173 or by email at ghelseth@blm.gov.

Authority: 43 CFR 2804.23.

Karen Mouritsen,
Deputy Assistant Director, Energy, Minerals and Realty Management.

[FR Doc. 2014-12542 Filed 5-29-14; 8:45 am]

BILLING CODE 4310-JB-P